ENVIRONMENTAL PROTECTION AGENCY

[FRL-7376-9]

Proposed Administrative Settlement Under the Comprehensive Environmental Response, Compensation and Liability Act; Amchem CERCLA Removal Site

AGENCY: Environmental Protection Agency.

ACTION: Notice; request for public comment.

SUMMARY: In accordance with section 122(i)(1) of CERCLA, 42 U.S.C. 9622(i)(1), notice is hereby given of a proposed administrative settlement concerning the Amchem CERCLA Removal Site, Ambler, Pennsylvania. The administrative settlement was signed by the United States Environmental Protection Agency, Region III's Regional Administrator on August 28, 2002, and is subject to review by the public pursuant to this document.

The Environmental Protection Agency (EPA) is proposing to enter into a settlement pursuant to section 122(h) of the Comprehensive Environmental Response, Compensation, and Liability Act of 1980, as amended, (CERCLA), 42 U.S.C. 9622(h). The proposed settlement resolves EPA's claim for past response costs under section 107 of CERCLA, 42 U.S.C. 9607, against the Union Carbide and Henkel Corporations for response costs incurred at the Amchem CERCLA Removal Site, located in Ambler, Pennsylvania. The proposed settlement requires the Union Carbide and Henkel Corporations, collectively, to pay $62,500 to the EPA Hazardous Substance Fund.

The Union Carbide and Henkel Corporations, as the Settling Parties, have executed binding certifications of their consent to participate in this settlement. Union Carbide and Henkel Corporations have agreed to pay the $62,500, collectively, subject to the contingency that EPA may elect not to complete the settlement based on matters brought to its attention during the public comment period established by this document.

For thirty (30) days following the date of publication of this notice, EPA will receive written comments relating to the proposed settlement. EPA will consider all comments received, and may withdraw or withhold consent to the proposed settlement if such comments disclose facts or considerations which indicate the proposed settlement is inappropriate, improper, or inadequate. EPA's response to any written comments received will be available for public inspection at the U.S. Environmental Protection Agency, Region III, 1650 Arch Street, Philadelphia, PA 19103.

DATES: Comments must be submitted on or before October 16, 2002.

ADDRESSES: Comments should be addressed to the Docket Clerk, United States Environmental Protection Agency, Region III, 1650 Arch Street, Philadelphia, Pennsylvania 19103, and should reference Amchem CERCLA Removal Site, Ambler, Pennsylvania, U.S. EPA Docket No. CERCLA 03-2002-0106. The proposed settlement agreement is available for public inspection at the United States Environmental Protection Agency, Region III, 1650 Arch Street, Philadelphia, Pennsylvania 19103. A copy of the proposed settlement agreement can be obtained from Lydia Guy, Regional Docket Clerk (3RCOO) Environmental Protection Agency, Region III, 1650 Arch Street, Philadelphia, Pennsylvania 19103, telephone number (215) 814-2489.

FOR FURTHER INFORMATION CONTACT: Charles B. Howland, Senior Assistant Regional Counsel, United States Environmental Protection Agency, Office of Regional Counsel (3RC44) 1650 Arch Street, Philadelphia, Pennsylvania 19103, telephone number (215) 814-2645.

Donald S. Welsh,
Regional Administrator, Region III.

[FR Doc. 02-23473 Filed 9-13-02; 8:45 am]

BILLING CODE 6560-50-P